ENVIRONMENTAL PROTECTION AGENCY

40 CFR Part 180

[EPA-HQ-OPP-2019-0385; FRL-8400-02-OCSPP]

Metaflumizone; Pesticide Tolerances; Technical Correction

AGENCY: Environmental Protection Agency (EPA).

ACTION: Correcting amendment.

SUMMARY: EPA issued a final rule in the Federal Register of April 19, 2021, establishing tolerances for residues of the insecticide metaflumizone in or on multiple commodities requested by BASF Corporation under the Federal Food, Drug, and Cosmetic Act (FFDCA). That document inadvertently requested removal of tolerances for the crop group fruit, stone, group 12-12. This document corrects the final regulation.

DATES: This correction is effective September 28, 2021.

ADDRESSES: The docket for this action, identified by docket identification (ID) number EPA-HQ-OPP-2019-0385, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Marietta Echeverria, Acting Director, Registration Division (7505P), Office of Pesticide Programs, Environmental Protection Agency, 1200 Pennsylvania Ave. NW, Washington, DC 20460-0001; telephone number: (703) 305-7090; email address: RDFRNotices@epa.gov.

SUPPLEMENTARY INFORMATION:

I. Does this action apply to me?

The Agency included in the April 19, 2021 final rule a list of those who may be potentially affected by this action.

II. What does this technical correction do?

EPA issued a final rule in the Federal Register of April 19, 2021 (86 FR 20290) (FRL-10018-60) that established tolerances for residues of the insecticide metaflumizone in or on multiple commodities. While establishing tolerances in response to a petition requesting these tolerances, EPA included erroneous language in its instructions to the Federal Register, by directing the removal of the existing tolerance established in § 180.657 for “Fruit, stone, group 12-12”. Instead of instructing the Federal Register to Remove the entries for “Fruit, citrus, group 10-10”; “Fruit, pome, group 11-10”; and “Fruit, stone, group 12-12” the instructions should have only directed the removal of entries for “Fruit, citrus, group 10-10” and “Fruit, pome, group 11-10”. EPA's instructions to remove the tolerances for “Fruit, stone, group 12-12” were not consistent with its authority under FFDCA section 408(d)(4)(A). Therefore, EPA is rescinding its instruction to remove “Fruit, stone, group 12-12” and reinstating the tolerance level at 0.04 parts per million.

III. Why is this correction issued as a final rule?

Section 553 of the Administrative Procedure Act (APA) (5 U.S.C. 553(b)(3)(B)) provides that, when an agency for good cause finds that notice and public procedure are impracticable, unnecessary, or contrary to the public interest, the agency may issue a final rule without providing notice and an opportunity for public comment. EPA has determined that there is good cause for making this technical correction final without prior proposal and opportunity for comment, because EPA inadvertently deleted the existing tolerance established for “Fruit, stone, group 12-12”. EPA finds that this constitutes good cause under 5 U.S.C. 553(b)(3)(B).

IV. Do any of the statutory and executive order reviews apply to this action?

No. For a detailed discussion concerning the statutory and Executive order review, refer to Unit VI. of the April 19, 2021 final rule.

V. Congressional review act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: September 14, 2021.
Marietta Echeverria,
Acting Director, Registration Division, Office of Pesticide Programs.

Therefore, for the reasons stated in the preamble, EPA is correcting 40 CFR part 180 as follows:

PART 180—TOLERANCES AND EXEMPTIONS FOR PESTICIDE CHEMICAL RESIDUES IN FOOD

1. The authority citation for part 180 continues to read as follows:

Authority: 21 U.S.C. 321(q), 346a and 371.

2. In § 180.657, amend the table in paragraph (a)(1) by adding in alphabetical order the entry “Fruit, stone, group 12-12” to read as follows:

§ 180.657 Metaflumizone; tolerances for residues.

(a) * * *

(1) * * *

Table 1 to Paragraph (a)(1)
Commodity | Parts per million
* * * * *
Fruit, stone, group 12-12 | 0.04
* * * * *

* * * * *

[FR Doc. 2021-20357 Filed 9-27-21; 8:45 am]

BILLING CODE 6560-50-P